DEPARTMENT OF DEFENSE

Department of the Army

Record of Decision for Legislative Environmental Impact Statement Regarding Training and Public Land Withdrawal Extension, Fort Irwin, California

AGENCY: Department of the Army, Department of Defense.

ACTION: Notice of availability.

SUMMARY: The Department of the Army (Army) signed the Record of Decision (ROD) on February 29, 2024, for the Legislative Environmental Impact Statement (LEIS) Regarding Training and Public Land Withdrawal Extension, Fort Irwin, California.

The Army selected a program of training infrastructure and range improvement, along with new uses for its Western Training Area (WTA). The ROD also determined that the Army will request that Congress renew the withdrawal of 110,000 acres of Fort Irwin training land, which consists of public land withdrawn from all types of appropriation and reserved for military purposes. The Army considered public comments received during the LEIS process. The ROD completes the National Environmental Policy Act (NEPA) process for the action.

ADDRESSES: Questions and requests for copies of the ROD should be directed to the Fort Irwin Public Affairs Office at phone number 760-380-4511, Monday through Friday from 7:30 a.m. to 4:00 p.m. Pacific Time, or via email at usarmy.irwin.ntc.mbx.ntc-eis-info-request@army.mil.

FOR FURTHER INFORMATION CONTACT: Please contact Renita Wickes, Public Affairs Office, IMPC-IRW-PAO (Wickes), 983 Inner Loop Rd., Fort Irwin, CA 93410; telephone: (760) 380-3078; email: renita.y.wickes.civ@army.mil.

SUPPLEMENTARY INFORMATION: The Army based its decision on the analysis contained in the Final LEIS, which addressed the Army's mission needs and the effects of the Army's action on the human environment at Fort Irwin, CA. The LEIS analyzed the effects of the proposed alternatives, issues of concern, and the comments provided during scoping and the public review period. The Army determined the selected alternative most closely achieves the purpose of and need for the proposed action while maintaining a high level of environmental stewardship. The Army determined that with implementation of the mitigation adopted in the ROD, there would be no significant adverse effects to the environment from any of the considered alternatives.

The Army will implement a program of training area and range improvements and will execute new training in Fort Irwin's WTA. This new training in the WTA includes high- intensity, full-scale, brigade-level maneuvers, with unrestricted ammunition use. Dud- producing munitions may be fired from the WTA, but no dud-producing munitions would be deliberately fired to impact in the WTA. The selected alternative also includes improvements to the Manix Trail, which takes training units to and from Fort Irwin and Marine Corps Logistics Base Barstow.

Authority: This Notice of Availability is published in accordance with NEPA (42 U.S.C 4321, et seq.) and pursuant to NEPA regulations (40 CFR 1501.9 and 32 CFR part 651).

James W. Satterwhite, Jr.,
U.S. Army Federal Register Liaison Officer.

[FR Doc. 2024-18390 Filed 8-15-24; 8:45 am]

BILLING CODE 3711-02-P